DEPARTMENT OF THE INTERIOR

Fish and Wildlife Service

[FWS-R2-ES-2024-N068; FXES11130200000-256-FF02ENEH00]

Endangered Wildlife; Recovery Permit Applications

AGENCY: Fish and Wildlife Service, Interior.

ACTION: Notice of receipt of permit applications; request for comments.

SUMMARY: We, the U.S. Fish and Wildlife Service, invite the public to comment on the following applications for a permit to conduct scientific research to promote conservation or other activities intended to recover and enhance endangered species survival. With some exceptions, the Endangered Species Act (ESA) prohibits certain activities that may impact endangered species, unless a Federal permit allows such activity. The ESA also requires that we invite public comment before issuing these permits.

DATES: To ensure consideration, please submit your written comments by February 12, 2025.

ADDRESSES:

Document availability: Request documents from the contact in the FOR FURTHER INFORMATION CONTACT section.

Comment submission: Submit comments by email to fw2_te_permits@fws.gov. Please specify the permit application you are interested in by number (e.g., Permit Record No. PER1234567).

FOR FURTHER INFORMATION CONTACT: Marty Tuegel, Supervisor, Environmental Review Division, by phone at 505-248-6651, or via email at marty_tuegel@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

With some exceptions, the Endangered Species Act of 1973, as amended (ESA; 16 U.S.C. 1531 et seq.), prohibits activities that constitute take of listed species unless a Federal permit is issued that allows such activity. The ESA's definition of “take” includes hunting, shooting, harming, wounding, or killing, and also such activities as pursuing, harassing, trapping, capturing, or collecting.

The ESA and our implementing regulations in the Code of Federal Regulations (CFR) at title 50, part 17, provide for issuing such permits and require that we invite public comment before issuing permits for activities involving listed species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Our release of documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the permit record number when submitting comments.

Permit record No. | Applicant | Species | Location | Activity | Type of take | Permit action
PER1906198 | Herman, Eric; Chandler, Arizona | Southwestern willow flycatcher (Empidonax traillii extimus) | Arizona, California, Colorado, New Mexico, Nevada, Texas, Utah | Presence/absence surveys, nest monitoring | Harass, harm | Renew/amend.
PER0946319 | Westland Resources, Inc.; Tucson, Arizona | Southwestern willow flycatcher (Empidonax traillii extimus) | Arizona, New Mexico | Presence/absence surveys | Harass, harm | Renew/amend.
PER2691439 | Zara Environmental, LLC.; Manchaca, Texas | Pink mucket (Lampsilis abrupta), Guadalupe fatmucket (Lampsilis bergmanni), Texas pimpleback (Cyclonaias petrina), false spike (Fusconaia mitchelli), Guadalupe orb (Cyclonaias necki), Texas fatmucket (Lampsilis bracteata), Balcones spike (Fusconaia iheringi) | Arkansas, Louisiana, Texas | Presence/absence surveys | Harass, harm | Renew/amend.
PER9580515 | Powers, Jarrod; Stillwater, Oklahoma | Winged mapleleaf (Quadrula fragosa), Ouachita rock pocketbook (Arcidens wheeleri), scaleshell mussel (Leptodea leptodon), Neosho mucket (Lampsilis rafinesqueana) | Oklahoma | Presence/absence surveys, relocations, habitat surveys | Harass, harm | Amend.
PER9356671 | Bastrop County; Bastrop, Texas | Houston toad (Bufo houstonensis) | Texas | Presence/absence surveys, bio-sample | Harass, harm | New.
PER11358780 | Houston Zoo, Inc.; Houston, Texas | Kemp's ridley sea turtle (Lepidochelys kempii), hawksbill sea turtle (Eretmochelys imbricata), leatherback sea turtle (Dermochelys coriacea), Barton Springs salamander (Eurycea sosorum), Houston toad (Bufo houstonensis), Big Bend gambusia (Gambusia gaigei), Comanche Springs pupfish (Cyprinodon elegans), Leon Springs pupfish (Cyprinodon bovinus) | Texas | Receive, rehabilitate, release, transport, educational display, captive propagation, headstarting, presence/absence surveys | Harass, harm, capture | Renew.
PER13973885 | SWCA Incorporated; Austin, Texas | Gulf Coast jaguarundi (Puma yagouaroundi cacomitli), ocelot (Leopardus pardalis), golden-cheeked warbler (Setophaga chrysoparia), northern aplomado falcon (Falco femoralis septentrionalis), southwestern willow flycatcher (Empidonax traillii extimus), whooping crane (Grus americana), Houston toad (Bufo houstonensis), Barton Springs salamander (Eurycea sosorum), Austin blind salamander (Eurycea waterlooensis), Texas blind salamander (Eurycea rathbuni), fountain darter (Etheostoma fonticola), Comal Springs dryopid beetle (Stygoparnus comalensis), Comal Springs riffle beetle (Heterelmis comalensis), Peck's Cave amphipod (Stygobromus pecki), Helotes mold beetle (Batrisodes venyivi), Coffin Cave mold beetle (Batrisodes texanus), Robber Baron Cave meshweaver (Cicurina baronia), Madla Cave meshweaver (Cicurina madla), Government Canyon Bat Cave meshweaver (Cicurina vespera), ground beetle (Rhadine exilis), ground beetle (Rhadine infernalis), Tooth Cave ground beetle (Rhadine persephone), Tooth Cave pseudoscorpion (Tartarocreagris texana), Government Canyon Bat Cave spider (Tayshaneta microps), Tooth Cave spider (Tayshaneta myopica), Kretschmarr Cave mold beetle (Texamaurops reddelli), Cokendolpher Cave harvestman (Texella cokendolpheri), Bee Creek Cave harvestman (Texella reddelli), Bone Cave harvestman (Texella reyesi), lesser prairie-chicken (Tympanuchus pallidicinctus), dunes sagebrush lizard (Sceloporus arenicolus), Texas hornshell (Popenaias popeii), Texas pimpleback (Cyclonaias petrina), Guadalupe orb (Cyclonaias necki), Texas fatmucket (Lampsilis bracteata), Guadalupe fatmucket (Lampsilis bergmanni), false spike (Fusconaia mitchelli), Balcones spike (Fusconaia iheringi) | Louisiana, New Mexico, Oklahoma, Texas | Presence/absence surveys, handle, voucher specimen | Harass, harm, capture, kill | Renew/amend.
PER11662207 | Gargaro, Madison; San Antonio, Texas | Golden-cheeked warbler (Setophaga chrysoparia) | Texas | Presence/absence surveys | Harass, harm | Renew.
PER11837375 | San Antonio Zoo; San Antonio, Texas | Clear Creek gambusia (Gambusia heterochir) | Texas | Captive propagation | Harass, harm, capture | Amend.
PER11325945 | Terrell, Danielle; Austin, Texas | Texas pimpleback (Cyclonaias petrina), Texas fatmucket (Lampsilis bracteata), false spike (Fusconaia mitchelli) | Texas | Presence/absence surveys, relocations | Harass, harm | New.
PER11327677 | Craig, Cody; Austin, Texas | Texas pimpleback (Cyclonaias petrina), Guadalupe orb (Cyclonaias necki), Texas fatmucket (Lampsilis bracteata), Guadalupe fatmucket (Lampsilis bergmanni), false spike (Fusconaia mitchelli), Balcones spike (Fusconaia iheringi) | Texas | Presence/absence surveys, relocations | Harass, harm | New.
PER11488706 | Gudgell, Lee; Seguin, Texas | Guadalupe orb (Cyclonaias necki), Guadalupe fatmucket (Lampsilis bergmanni), false spike (Fusconaia mitchelli) | Texas | Presence/absence surveys | Harass, harm | New.
PER13531963 | Gladys Porter Zoo; Brownsville, Texas | Kemp's ridley sea turtle (Lepidochelys kempii), hawksbill sea turtle (Eretmochelys imbricata), leatherback sea turtle (Dermochelys coriacea), Gulf Coast jaguarundi (Puma yagouaroundi cacomitli), ocelot (Leopardus pardalis) | Texas | Receive, rehabilitate, release, educational display, nesting detection, retrieval and relocation, bio-sample, tag, presence/absence surveys | Harass, harm | Renew/amend.
PER12291510 | Schwalb Stream Ecology Lab at Texas State University; San Marcos, Texas | Texas pimpleback (Cyclonaias petrina), Guadalupe orb (Cyclonaias necki), Texas fatmucket (Lampsilis bracteata), Guadalupe fatmucket (Lampsilis bergmanni), false spike (Fusconaia mitchelli), Balcones spike (Fusconaia iheringi) | Texas | Presence/absence surveys | Harass, harm | New.
PER11498907 | Carreon, Sarah; Helotes, Texas | Golden-cheeked warbler (Setophaga chrysoparia) | Texas | Presence/absence surveys | Harass, harm | New.
PER13993348 | Fischer, Clay; South Padre Island, Texas | Gulf Coast jaguarundi (Puma yagouaroundi cacomitli), ocelot (Leopardus pardalis), golden-cheeked warbler (Setophaga chrysoparia), Houston toad (Bufo houstonensis), southwestern willow flycatcher (Empidonax traillii extimus) | Texas | Presence/absence surveys | Harass, harm | Renew/amend.
PER11639611 | Macedo, Danielle; Austin, Texas | Golden-cheeked warbler (Setophaga chrysoparia) | Texas | Presence/absence surveys | Harass, harm | New.
PER12084642 | Laine, Robin; San Antonio, Texas | Golden-cheeked warbler (Setophaga chrysoparia) | Texas | Presence/absence surveys | Harass, harm | Renew.
PER12079456 | HDR Engineering Inc.; Austin, Texas | Golden-cheeked warbler (Setophaga chrysoparia), Houston toad (Bufo houstonensis) | Texas | Presence/absence surveys | Harass, harm | Amend.
PER0029468 | Jenkerson, Jeffrey; San Marcos, Texas | Guadalupe fatmucket (Lampsilis bergmanni), Texas fatmucket (Lampsilis bracteata), Guadalupe orb (Cyclonaias necki), Texas pimpleback (Cyclonaias petrina), Balcones spike (Fusconaia iheringi), false spike (Fusconaia mitchelli) | Texas | Presence/absence surveys, relocations | Harass, harm, capture | Amend.
PER13185642 | Stantec Texas; Austin, Texas | Guadalupe fatmucket (Lampsilis bergmanni), Texas fatmucket (Lampsilis bracteata), Guadalupe orb (Cyclonaias necki), Texas pimpleback (Cyclonaias petrina), Balcones spike (Fusconaia iheringi), false spike (Fusconaia mitchelli) | Texas | Presence/absence surveys, salvage, relocations | Harass, harm, capture | Amend.
PER12929504 | Lower Colorado River Authority Transmission Services Corporation; Austin, Texas | Golden-cheeked warbler (Setophaga chrysoparia), Houston toad (Bufo houstonensis), northern aplomado falcon (Falco femoralis septentrionalis), southwestern willow flycatcher (Empidonax traillii extimus) | Texas | Presence/absence surveys | Harass, harm | Renew.
PER13146293 | Lazo, Walker; San Antonio, Texas | Helotes mold beetle (Batrisodes venyivi), Coffin Cave mold beetle (Batrisodes texanus), Robber Baron Cave meshweaver (Cicurina baronia), Madla Cave meshweaver (Cicurina madla), Government Canyon Bat Cave meshweaver (Cicurina vespera), ground beetle (Rhadine exilis), ground beetle (Rhadine infernalis), Tooth Cave ground beetle (Rhadine persephone), Tooth Cave pseudoscorpion (Tartarocreagris texana), Government Canyon Bat Cave spider (Tayshaneta microps), Tooth Cave spider (Tayshaneta myopica), Kretschmarr Cave mold beetle (Texamaurops reddelli), Cokendolpher Cave harvestman (Texella cokendolpheri), Bee Creek Cave harvestman (Texella reddelli), Bone Cave harvestman (Texella reyesi) | Texas | Presence/absence surveys, voucher specimen collection | Harass, harm, kill | Amend.
PER13361397 | Aragon, Felicia; Santa Fe, New Mexico | Southwestern willow flycatcher (Empidonax traillii extimus) | New Mexico | Presence/absence surveys | Harass, harm | New.
PER13544765 | Lutterschmidt, William; Huntsville, Texas | Houston toad (Bufo houstonensis) | Texas | Handle, bio-sample, e-DNA analysis | Harass, harm, capture | New.
PER0055324 | Bio-West, Inc.; Round Rock, Texas | Guadalupe fatmucket (Lampsilis bergmanni), Texas fatmucket (Lampsilis bracteata), Guadalupe orb (Cyclonaias necki), Texas pimpleback (Cyclonaias petrina), false spike (Fusconaia mitchelli) | Texas | Presence/absence surveys | Harass, harm | Amend.
PER13547800 | Brown and Gay Engineers, Inc.; Frisco, Texas | Lesser prairie-chicken (Tympanuchus pallidicinctus), dunes sagebrush lizard (Sceloporus arenicolus) | Colorado, Kansas, New Mexico, Oklahoma, Texas | Presence/absence surveys | Harass, harm | Amend.
PER13743117 | City of Austin—Balcones Canyonlands Preserve; Austin, Texas | Golden-cheeked warbler (Setophaga chrysoparia), Barton Springs salamander (Eurycea sosorum), Helotes mold beetle (Batrisodes venyivi), Coffin Cave mold beetle (Batrisodes texanus), Robber Baron Cave meshweaver (Cicurina baronia), Madla Cave meshweaver (Cicurina madla), Government Canyon Bat Cave meshweaver (Cicurina vespera), ground beetle (Rhadine exilis), ground beetle (Rhadine infernalis), Tooth Cave ground beetle (Rhadine persephone), Tooth Cave pseudoscorpion (Tartarocreagris texana), Government Canyon Bat Cave spider (Tayshaneta microps), Tooth Cave spider (Tayshaneta myopica), Kretschmarr Cave mold beetle (Texamaurops reddelli), Cokendolpher Cave harvestman (Texella cokendolpheri), Bee Creek Cave harvestman (Texella reddelli), Bone Cave harvestman (Texella reyesi) | Texas | Presence/absence surveys, nest monitoring, bio-sample, banding, nest collection, voucher species | Harass, harm, capture, kill | Renew/amend.
PER12056733 | Borchardt, Grahme; Benbrook, Texas | Lesser prairie-chicken (Tympanuchus pallidicinctus) | Colorado, Kansas, New Mexico, Oklahoma, Texas | Presence/absence surveys | Harass, harm | New.
PER5502059 | Fenolio, Dante; San Antonio, Texas | Ozark big-eared bat (Corynorhinus townsendii ingens), gray bat (Myotis grisescens), northern long-eared bat (Myotis septentrionalis), Indiana bat (Myotis sodalis), Hell Creek Cave crayfish (Cambarus zophonastes), Benton County Cave crayfish (Cambarus aculabrum), Barton Springs salamander (Eurycea sosorum), Austin blind salamander (Eurycea waterlooensis), Peck's Cave amphipod (Stygobromus pecki), Comal Springs riffle beetle (Heterelmis comalensis), Comal Springs dryopid beetle (Stygoparnus comalensis), Texas blind salamander (Eurycea rathbuni), Mexican blind catfish (Prietella phreatophila), Clear Creek gambusia (Gambusia heterochir) | Arkansas, Oklahoma, Texas | Presence/absence surveys, bio-sample, voucher specimen, transport | Harass, harm, capture, kill | New.

Public Availability of Comments

All comments we receive become part of the public record associated with this action. Requests for copies of comments will be handled in accordance with the Freedom of Information Act, National Environmental Policy Act, and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We provide this notice under section 10 of the Endangered Species Act (16 U.S.C. 1531 et seq.).

Amy Lueders,
Regional Director, Southwest Region, U.S. Fish and Wildlife Service.

[FR Doc. 2025-00505 Filed 1-10-25; 8:45 am]

BILLING CODE 4333-15-P